DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: October School Enrollment Supplement to the Current Population Survey.

OMB Control Number: 0607-0464.

Form Number(s): None.

Type of Request: Extension of a currently approved collection.

Burden Hours: 2,950.

Number of Respondents: 59,000.

Average Hours per Response: 3 minutes.

Needs and Uses: The purpose of this request for review is to obtain continued clearance for the supplemental inquiry concerning school enrollment to be conducted in conjunction with the October Current Population Survey (CPS). The School Enrollment Supplement is jointly sponsored by the U.S. Census Bureau, the Bureau of Labor Statistics (BLS), and the National Center for Education Statistics (NCES). A number of questions in this supplement may appear in the American Community Survey (ACS) and in other demographic surveys. However, this supplement's comprehensive set of questions does not duplicate any other single information collection, and ensures the historical continuity of a data series that spans over 5 decades.

This data series provides basic information on enrollment status of various segments of the population necessary as background for policy formulation and implementation. The CPS October supplement is the only annual source of data on public/private elementary and secondary school enrollment and characteristics of private school students and their families, which are used for tracking historical trends and for policy planning and support. The basic school enrollment questions have been collected annually in the CPS for 50 years. Consequently, this supplement is the only source of historical data—at the national level—on the age distribution and family characteristics of college students, and on the demographic characteristics of preprimary school enrollment. As part of the federal government's efforts to collect data and provide timely information to local governments for policymaking decisions, this supplement provides national trends in enrollment and progress in school. Discontinuance of these data would mean not complying with the federal government's obligation to provide data to decision makers on current educational issues and would disrupt a data series that has been in existence for 50 years.

Affected Public: Individuals or households.

Frequency: Annually.

Respondent's Obligation: Voluntary.

Legal Authority: Title 13 U.S.C., Section 182, and Title 29 U.S.C., Sections 1-9.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: July 25, 2012.
Gwellnar Banks,
Management Analyst, Office of the Chief Information Officer.

[FR Doc. 2012-18451 Filed 7-27-12; 8:45 am]

BILLING CODE 3510-07-P